DEPARTMENT OF HOMELAND SECURITY

Coast Guard

33 CFR Part 117

[Docket No. USCG-2010-0907]

Drawbridge Operation Regulations; Newtown Creek, Dutch Kills, English Kills, and Their Tributaries, NY, Maintenance

AGENCY: Coast Guard, DHS.

ACTION: Notice of temporary deviation from regulations.

SUMMARY: The Commander, First Coast Guard District, has issued a temporary deviation from the regulation governing the operation of the Greenpoint Avenue Bridge across Newtown Creek, mile 1.3, New York. The deviation allows the bridge to remain in the closed position for seven days to facilitate bridge rehabilitation maintenance.

DATES: This deviation is effective from October 26, 2010 through November 1, 2010.

ADDRESSES: Documents mentioned in this preamble as being available in the docket are part of docket USCG-2010-0907 and are available online at http://www.regulations.gov, inserting USCG-2010-0907 in the “Keyword” and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, judy.k.leung-yee@uscg.mil, telephone (212) 668-7165. If you have questions on viewing the docket, call Renee V. Wright, Program Manager, Docket Operations, telephone 202-366-9826.

SUPPLEMENTARY INFORMATION: The Greenpoint Avenue Bridge, across Newtown Creek at mile 1.3, at New York, has a vertical clearance in the closed position of 26 feet at mean high water and 31 feet at mean low water. The drawbridge operation regulations are listed at 33 CFR 117.801(g)(1).

The owner of the bridge, New York City Department of Transportation (NYCDOT), requested a temporary deviation from the regulations to facilitate the completion of scheduled bridge rehabilitation maintenance previously authorized for two six-week closures from July 5, 2010 through August 13, 2010, and from August 30, 2010, through October 8, 2010. The first six-week closure was not implemented due to materials not being fabricated in time. The second six-week closure was implemented but unfinished work remains to be completed. This temporary deviation will allow the work to be completed within a one-week bridge closure period.

Under this temporary deviation the Greenpoint Avenue Bridge may remain in the closed position from October 26, 2010 through November 1, 2010. Vessels that can pass under the bridge in the closed position may do so at any time.

Waterway users were advised of the requested bridge closures and offered no objection.

In accordance with 33 CFR 117.35(e), the bridge must return to its regular operating schedule immediately at the end of the designated time period. This deviation from the operating regulations is authorized under 33 CFR 117.35.

Dated: September 28, 2010.
Gary Kassof,
Bridge Program Manager, First Coast Guard District.

[FR Doc. 2010-25497 Filed 10-8-10; 8:45 am]

BILLING CODE 9110-04-P